NUCLEAR REGULATORY COMMISSION

Draft Regulatory Guide; Issuance, Availability

The Nuclear Regulatory Commission has placed a draft guide on the website for public comment. This Regulatory Guide series has been developed to describe and make available to the public such information as methods acceptable to the NRC staff for implementing specific parts of the NRC's regulations, techniques used by the staff in evaluating specific problems or postulated accidents, and data needed by the staff in its review of applications for permits and licenses.

This draft guide, temporarily identified by its task number, DG-1094 (which should be mentioned in all correspondence concerning this draft guide), is a revision of DG-1094 (64FR58461) as a result of public comments and a public meeting held on February 23, 2000. A final draft guide, identified by the task number of DG-1097, will be published shortly for formal comment. This guide has been developed to provide a comprehensive fire protection guidance document, and to identify the scope and depth of fire protection that the staff has determined to be acceptable for operating nuclear plants. This guide may be used for licensee self-assessments and as the deterministic basis for future rulemaking. This guide has been developed from a compilation of fire protection regulations, generic communications, Branch Technical Positions, and other NRC guidance. In addition, as appropriate, new guidance is provided where the existing guidance is weak or non-existent. The specific NRC fire protection requirements applicable to any given operating reactor are a function of licensing dates, specific license conditions, rule applicability statements, approved exemptions/deviations, and individual plant Safety Evaluation Reports (SERs). It is not possible to capture in a single guide all the compliance alternatives that have been previously accepted by the NRC for a given plant. This guide presents the best available methods for meeting fire protection requirements and objectives that are acceptable to the Commission, and will be used in the evaluation of fire protection programs for operating nuclear power plants. Nothing in this guide prohibits a licensee from proposing an alternative method(s) for complying with specified portions of the Commission's regulations.

The draft guide has not received complete staff approval and does not represent an official NRC staff position.

Comments may be accompanied by relevant information or supporting data. Written comments may be submitted to David L. Meyer, Chief, Rules and Directives Branch, Office of Administration, U.S. Nuclear Regulatory Commission, Washington, DC 20555. Copies of comments received may be examined at the NRC Public Document Room, 2120 L Street, NW, (Lower Level), Washington, DC 20555-0001. The public comment period for this revision of DG-1094 will close at the same time as the public comment period for the final draft guide identified by the task number of DG-1097. All comments will be incorporated in the final regulatory guide to be issued in 2001.

You may also provide comments via the NRC's interactive rulemaking website (http://www.techconf.llnl.gov/cgi_bin/topics). This site provides the availability to upload comments as files (any format), if your web browser supports this function. For information about the interactive rulemaking website, contact Ms. Carol Gallagher, (301) 415-5905; e-mail CAG@nrc.gov. For information about the draft guide and the related documents, contact Mr. E.A. Connell, (301) 415-2838; e-mail EAC@nrc.gov.

Although a time limit is given for comments on this draft guide, comments and suggestions in connection with items for inclusion in guides currently being developed or improvements in all published guides are encouraged at any time.

Regulatory guides are available for inspection at the Commission's Public Document Room 2120 L Street, NW, (Lower Level), Washington, DC. Current draft Regulatory Guides that have been issued for public comment can be found at our Rulemaking site: http://ruleforum.llnl.gov/cg_bn/rulemake?source=rg. Requests for single copies of draft or final guides (which may be reproduced) or for placement on an automatic distribution list for single copies of future draft guides in specific divisions should be made in writing to the U.S. Nuclear Regulatory Commission, Washington, DC 20555-0001, Attention: Reproduction and Distribution Services Section; or by fax to (301) 415-2289, or by e-mail to <Distribution@nrc.gov>. Telephone requests cannot be accommodated. Regulatory Guides are not copyrighted and Commission approval is not required to reproduce them. (5 U.S.C. 552(a)).

Dated at Rockville, Maryland this 18th day of April 2000.
For the Nuclear Regulatory Commission.
John N. Hannon,
Chief, Plant Systems Branch, Division of Systems Safety and Analysis, Office of Nuclear Reactor Regulation.

[FR Doc. 00-10294 Filed 4-24-00; 8:45 am]

BILLING CODE 7590-01-P